DEPARTMENT OF HEALTH AND HUMAN SERVICES

National Institutes of Health

Center for Scientific Review: Amended Notice of Meeting

Notice is hereby given of a change in the meeting of the Sensorimotor Integration Study Section, February 06, 2015, 08:00 a.m. to February 06, 2015, 06:00 p.m., JW Marriott New Orleans, 614 Canal Street, New Orleans, LA, 70130 which was published in the Federal Register on January 08, 2015, 80 FR 1031.

The meeting will be held at the Renaissance New Orleans Pere Marquette Hotel, 817 Common Street New Orleans, LA, 70112. The meeting date and time remain the same. The meeting is closed to the public.

Dated: January 8, 2015.
Carolyn A. Baum,
Program Analyst, Office of Federal Advisory Committee Policy.

[FR Doc. 2015-00496 Filed 1-14-15; 8:45 am]

BILLING CODE 4140-01-P